DEPARTMENT OF TRANSPORTATION

Federal Aviation Administration

Notice of Intent To Release Federally-Obligated Airport Properties, Tampa International Airport, Tampa, FL

AGENCY: Federal Aviation Administration (FAA), DOT.

ACTION: Request for public comment.

SUMMARY: The FAA hereby provides notice of intent to release certain airport properties, 0.026 acres at the Tampa International Airport, Tampa, FL, from the conditions, reservations, and restrictions as contained in a Quitclaim Deed agreement between the FAA and the City of Tampa, dated November 5, 1947. The release of property will allow the Hillsborough County Aviation Authority to grant a utility easment to the City of Tampa. The property is located on the southwest corner of Dale Mabry Highway and Tampa Bay Boulevard in Hillsborough County, Florida. The parcel is currently designated as non-aeronautical use. The property will be released of its federal obligations for fair market value. The fair market value of the parcel has been determined by appraisal to be $7,900.

Documents reflecting the Sponsor's request are available, by appointment only, for inspection at the Tampa International Airport and the FAA Airports District Office.

SUPPLEMENTARY INFORMATION: Section 125 of The Wendell H. Ford Aviation Investment and Reform Act for the 21st Century (AIR-21) requires the FAA to provide an opportunity for public notice and comment prior to the “waiver” or “modification” of a sponsor's Federal obligation to use certain airport land for non-aeronautical purposes.

DATES: Comments are due on or before September 30, 2011.

ADDRESSES: Documents are available for review at the Palm Beach International Airport, and the FAA Airports District Office, 5950 Hazeltine National Drive, Suite 400, Orlando, FL 32822. Written comments on the Sponsor's request must be delivered or mailed to: Rebecca R. Henry, Program Manager, Orlando Airports District Office, 5950 Hazeltine National Drive, Suite 400, Orlando, FL 32822-5024.

FOR FURTHER INFORMATION CONTACT: Rebecca R. Henry, Program Manager, Orlando Airports District Office, 5950 Hazeltine National Drive, Suite 400, Orlando, FL 32822-5024.

W. Dean Stringer,
Manager, Orlando Airports District Office, Southern Region.

[FR Doc. 2011-22233 Filed 8-30-11; 8:45 am]

BILLING CODE 4910-13-P